DEPARTMENT OF THE INTERIOR

Bureau of Land Management

[LLAZ910000.L14300000.DB0000.LXSS058A0000]

Notice of Availability of the Draft Environmental Impact Statement for the Restoration Design Energy Project and Land Use Plan Amendments

AGENCY: Bureau of Land Management, Interior.

ACTION: Notice of Availability.

SUMMARY: In compliance with the National Environmental Policy Act of 1969, as amended (NEPA); the Council on Environmental Quality and the Department of the Interior regulations implementing NEPA; and the Federal Land Policy and Management Act of 1976, as amended, the Bureau of Land Management (BLM) Arizona State Office has prepared a Draft Environmental Impact Statement (EIS) for the Restoration Design Energy Project (RDEP) to evaluate proposed amendments to several Resource Management Plans (RMPs) to identify lands across Arizona that may be suitable for developing renewable solar and wind energy, and to establish a baseline set of environmental protection measures for such projects. By this notice, the BLM is announcing the beginning of a 90-day public review and comment period on the Draft EIS.

DATES: To ensure comments will be considered, the BLM must receive written comments on the RDEP Draft EIS within 90 days following the date the Environmental Protection Agency publishes its Notice of Availability in the Federal Register. The BLM will announce future meetings or hearings and any other public involvement activities at least 15 days in advance through local media, newspapers, mailings, and the BLM Web site at: http://www.blm.gov/az/st/en.html.

ADDRESSES: You may submit comments on the RDEP Draft EIS by any of the following methods.

• Email: az_arra_rdep@blm.gov.

• Fax: Attn: Lane Cowger, (602) 417-9454; and

• Mail or other delivery service: BLM-Arizona State Office, Attn: Restoration Design Energy Project, One North Central Avenue, Suite 800, Phoenix, AZ 85004-4427.

Please be sure to include your name, any organization you represent, and return address with your comment.

Copies of the Draft EIS are available at the BLM-Arizona State Office, One North Central Avenue, Suite 800, Phoenix, Arizona 85004, or it can be downloaded from the project Web site: http://www.blm.gov/az/st/en/prog/energy/arra_solar.htm.

FOR FURTHER INFORMATION CONTACT: Kathy Pedrick, BLM Project Manager; Telephone: 602-417-9235; Mail: One North Central Avenue, Suite 800, Phoenix, Arizona 85004-4427; or email: az_arra_rdep@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The RDEP supports the Secretary of the Interior's goals to build America's new energy future and to protect and restore treasured landscapes. The purpose of the RDEP is to conduct statewide planning that fosters environmentally responsible production of solar and wind energy and allows the permitting of future solar and wind energy development projects to proceed in a more efficient and standardized manner. The RDEP would amend BLM land use plans to identify geographic areas in Arizona best suited for solar and wind energy development, including solar and wind technologies, and to establish a baseline set of environmental protection measures for such projects.

The BLM is proposing to identify Renewable Energy Development Areas (REDAs), BLM-administered lands that may be suitable for the development of solar and wind facilities, and a Solar Energy Zone (SEZ) with a priority for utility-scale (greater than 20 megawatts) solar development. These areas include disturbed sites and lands with low resource sensitivity and few environmental conflicts. Through scoping and outreach activities, disturbed sites have been identified throughout Arizona, including former landfills, brownfields, mines, isolated BLM parcels, and Central Arizona Project canal rights-of-way areas. Additionally, the BLM proposes to establish unified management actions, design features, and best management practices applicable to solar and wind energy development on BLM-administered lands in Arizona. The REDAs would identify where solar and wind energy development is likely to be compatible with resource objectives and would be suitable for the development of utility- or distributed-scale solar and wind facilities. The SEZ would be prioritized for utility-scale (greater than 20 megawatts) solar development.

The Draft EIS evaluates six action alternatives and the No Action Alternative. Identifying lands as REDAs was an iterative process that provides a wide range of alternatives. Alternative 1 identifies about 321,500 acres of REDAs on BLM-administered land that are formerly disturbed sites or lands with low resource sensitivity. It seeks to provide maximum flexibility for locating small- to large-scale projects without consideration of other physical constraints, such as distance to transmission or load. Alternative 2 seeks to reduce environmental impacts by only including the REDAs identified in Alternative 1 that are within 5 miles of designated utility corridors and existing or proposed transmission lines. Under Alternative 2, about 218,600 acres of BLM-administered land are identified as REDAs. Alternative 3 seeks to reduce disturbance and environmental impacts by identifying about 129,800 acres of REDAs that are near the point of demand, such as cities, towns, or industrial centers. Alternative 4 seeks to address potential water issues by instituting specific design features for 321,500 acres of REDAs to avoid impacts on sensitive watersheds, groundwater supply, and water quality. Alternative 5 focuses on opportunities to facilitate solar and wind energy development through land tenure adjustments by identifying about 43,700 acres of REDAs on BLM-administered land that have been identified through prior planning processes to be suitable for disposal. Alternative 6 was developed through a collaborative process and identifies about 237,100 acres of REDAs within 5 miles of designated utility corridors and existing transmission lines or near a point of demand, includes design features to protect water resources, and provides for land tenure adjustment of lands previously identified for disposal.

In addition to identifying REDAs, the RDEP is serving as a step-down process to the Solar Energy Development Programmatic EIS (Solar Programmatic EIS) for utility-scale solar development. In this regard, the BLM is also proposing to identify the Agua Caliente SEZ in eastern Yuma County to facilitate the development of utility-scale solar projects. The proposed SEZ was developed based on a screening process that included the following criteria: available large contiguous parcels of BLM land (greater than 2,500 acres); proximity to transmission; limited known environmental or cultural constraints; proximity to roads and infrastructure; and proximity to existing solar developments. Based on input from cooperating agencies and the public, the Draft EIS analyzes three footprints for the proposed Agua Caliente SEZ: 2,760 acres, 6,770 acres, and 20,600 acres.

Alternative 6 with 237,100 acres of REDAs and a 6,770-acre SEZ is the agency's preferred alternative because it is the result of extensive input from cooperating agencies and the public and best meets the stated purpose of the RDEP. The preferred alternative is the BLM's preliminary preference but does not represent a final BLM decision. The preferred alternative could change between publication of the Draft EIS and Final EIS based on public comments; new information; or changes in laws, regulations, or BLM policies.

The following BLM RMPs are proposed for amendment to incorporate the identification of REDAs and environmental protection measures, as appropriate: Bradshaw-Harquahala RMP (2010); Arizona Strip Field Office RMP (2008); Kingman Resource Area RMP (1995); Lake Havasu Field Office RMP (2007); Lower Gila South RMP (1988, as amended 2005); Lower Gila North Management Framework Plan (1983, as amended 2005); Phoenix RMP (1988); Safford District RMP (1991); and Yuma Field Office RMP (2010). Additionally, the Yuma Field Office RMP would be amended to identify the Agua Caliente SEZ and to change the Visual Resource Management class for portions of lands within the SEZ.

This EIS will not eliminate the need for site-specific environmental review for future individual solar and wind energy development proposals; the BLM will make decisions on a case-by-case basis whether to authorize individual solar and wind energy development projects in conformance with the amended RMP on the basis of this EIS. The BLM retains the discretion to deny solar and wind right-of-way applications based on site-specific issues and concerns, even in those areas available or open for application in the existing land use plan. The RDEP is not proposing any new exclusion or avoidance areas. Solar and wind energy developments proposed outside of REDAs or a SEZ would be considered on a case-by-case basis using applicable State and national policy direction and guidance from existing land use plan decisions.

The Draft EIS analyzes impacts of the alternatives on land use authorizations; military airspace; air quality; minerals/geology and soils; farm lands (prime or unique); water quality and quantity; floodplains, wetlands, and riparian zones; vegetation (including invasive, nonnative species); wildlife; migratory birds; BLM-designated sensitive animal and plant species; cultural resources; Native American religious concerns; paleontological resources; visual resources; livestock grazing; recreation; special designations (including areas of critical environmental concern and wilderness); lands with wilderness characteristics; national scenic and historic trails; noise; public health and safety and fire management; hazardous or solid waste; social and economic values; and environmental justice.

The Draft EIS is in conformance with other Federal, State, and local plans, including the ongoing Solar Programmatic EIS that is currently being prepared by the U.S. Department of Energy and the BLM. The Solar Programmatic EIS proposes to amend land use plans to identify SEZs for utility-scale production of solar energy and to establish national program guidance, mitigation measures, and management practices for utility-scale solar energy development on BLM-administered lands. Throughout development of the RDEP, the BLM has engaged eight cooperating agencies, State and local governments, tribes, the Arizona Resource Advisory Council, and stakeholders in order to obtain input on defining the REDAs and the future solar and wind energy footprint in Arizona.

Please note that public comments and information submitted, including names, street addresses, and email addresses of persons who submit comments, will be available for public review and disclosure at the Bureau of Land Management Arizona State Office, One North Central Avenue Suite 800, Phoenix, Arizona, during regular business hours (8 a.m. to 4 p.m.), Monday through Friday, except holidays.

Before including your address, phone number, email address, or other personal identifying information in your comment, you should be aware that your entire comment, including your personal identifying information, may be made publicly available at any time. While you can ask us in your comment to withhold your personal identifying information from public review, we cannot guarantee that we will be able to do so.

Authority: 40 CFR 1503.1, 1506.6, 1506.10, and 43 CFR 1610.2.

Raymond Suazo,
State Director.

[FR Doc. 2012-3630 Filed 2-16-12; 8:45 am]

BILLING CODE 4310-$$-P